DEPARTMENT OF COMMERCE

National Oceanic and Atmospheric Administration

[I.D. 012903E]

Mid-Atlantic Fishery Management Council; Public Meeting

AGENCY: National Marine Fisheries Service (NMFS), National Oceanic and Atmospheric Administration (NOAA), Commerce.

ACTION: Notice of public meeting.

SUMMARY: The Mid-Atlantic Fishery Management Council's (MAFMC) Atlantic Mackerel, Squid, and Butterfish Committee, together with Industry Advisors, will hold a public meeting.

DATES: The meeting will be held on Thursday, February 20, 2003, from 10 a.m. until 4 p.m.

ADDRESSES: This meeting will be held at the Renaissance Hotel Philadelphia Airport, 500 Stevens Drive, Philadelphia, PA; telephone: 610-521-8954.

Council address: Mid-Atlantic Fishery Management Council, Room 2115, 300 S. New Street, Dover, DE 19904.

FOR FURTHER INFORMATION CONTACT: Daniel T. Furlong, Executive Director, Mid-Atlantic Fishery Management Council; telephone: 302-674-2331, ext. 19.

SUPPLEMENTARY INFORMATION: The purpose of this meeting is to discuss possible management measures to address over-capacity in the Loligo fishery including additional limited entry provisions, seasonal allocation of quota, trip limits, and individual fishing quotas for inclusion in Amendment 10 to the Atlantic Mackerel, Squid, and Butterfish Fishery Management Plan.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the MAFMC's intent to take final action to address the emergency.

Special Accommodations

This meeting is physically accessible to people with disabilities. Requests for sign language interpretation or other auxiliary aids should be directed to Joanna Davis at the Mid-Atlantic Council Office (see ADDRESSES) at least 5 days prior to the meeting date.

Dated: January 29, 2003.
Theophilus R. Brainerd,
Acting Director, Office of Sustainable Fisheries, National Marine Fisheries Service.

[FR Doc. 03-2808 Filed 2-5-03; 8:45 am]

BILLING CODE 3510-22-S